DEPARTMENT OF HOMELAND SECURITY

Coast Guard

33 CFR Part 110

[Docket Number USCG-2023-0868]

RIN 1625-AA01

Anchorage Regulations; Los Angeles and Long Beach Harbors, CA

AGENCY: Coast Guard, DHS.

ACTION: Final rule.

SUMMARY: The Coast Guard is amending the anchorage regulations for Los Angeles and Long Beach Harbors. This action would amend Anchorages F and G, and update anchorage usage and communication requirements. The purpose of this final rule is to improve navigation safety by modifying Anchorage F and G to accommodate an increased volume of vessel traffic and larger vessels calling on the Ports of Los Angeles and Long Beach and alleviate vessels anchoring near a subsea pipeline.

DATES: This rule is effective October 9, 2025.

ADDRESSES: To view documents mentioned in this preamble as being available in the docket, go to https://www.regulations.gov, type USCG-2023-0868 in the search box and click “Search.” Next, in the Document Type column, select “Supporting & Related Material.”

FOR FURTHER INFORMATION CONTACT: If you have questions about this rule, call or email Lieutenant Rubymar Sebastian-Echevarria at Southwest District Waterways, Coast Guard; telephone (571) 613-2930 or (206) 820-5620, email D11waterways@uscg.mil.

SUPPLEMENTARY INFORMATION:

I. Table of Abbreviations

CFR Code of Federal Regulations

DHS Department of Homeland Security

FR Federal Register

NPRM Notice of proposed rulemaking

OMB Office of Management and Budget

§ Section

U.S.C. United States Code

VMRS Vessel Movement Reporting System

II. Background Information and Regulatory History

On April 23, 2024, the Coast Guard published a notice of proposed rulemaking (NPRM) titled Anchorage Regulations; Los Angeles and Long Beach Harbors, California (89 FR 30299). There we stated why we issued the NPRM and invited comments on our proposed regulatory action related to this amendment. During the comment period that ended July 22, 2024, we received three (03) comments.

III. Legal Authority and Need for Rule

The Coast Guard is issuing this rule under authority in 46 U.S.C. 70006 and 70034, 33 CFR 109.05, 33 CFR 1.05-1, and DHS Delegation No. 00170.1 Revision 01.3, which collectively authorize the Coast Guard to propose, establish, and define regulatory anchorage grounds. Under Title 33 of the Code of Federal Regulation (CFR) §§ 1.05-1 and 109.05, U.S. Coast Guard District Commanders are delegated the authority to establish anchorage grounds by the Commandant of the U.S. Coast Guard. The Coast Guard established Anchorage Grounds under Title 33 CFR CGFR 67-46, 32 FR 17728, Dec. 12, 1967, as amended by CGD11-04-005, 71 FR 15036, Mar. 27, 2006. The purpose of this rule is to improve navigational safety and update anchorage usage and communication requirements.

IV. Discussion of Comments, Changes, and the Rule

As noted above, we received three comments on the NPRM published April 23, 2024. Two comments were submitted to the docket. One commenter supported with the NPRM and stated that this action would enhance the safety and usability of the anchorages. Another commenter stated that Anchorage F and G positions do not align with the initial submissions from the COTP and briefed to the Harbor Safety Committee. Additionally, the commenter suggested that in Table 11 to paragraph (c), Anchorage A should be deleted because Anchorage A was replaced with Pier 400. Lastly, the commenter suggested that Table 11 to paragraph (c), note “d”: 33 CFR 165.1109(e) should be replaced with 33 CFR 165.1152. As discussed below, the Coast Guard revised the regulatory text of this rule based on this feedback. The third commenter emailed us to provide the comment. The commenter mentioned they would “greatly appreciate it if the Coast Guard could confirm those updated coordinates with the Vessel Traffic Service LA-LB once finalized,” and that the “Coast Guard reconsider language that insinuates the rule would support “increased volume of vessel traffic.” We confirmed the coordinates for the location of these anchorages with the Vessel Movement Reporting System (VMRS) prior to publishing this rule. However, we disagree with the assertion that the description of our proposed rule insinuates anything about vessel traffic volumes.

This rule amends the boundaries and anchorage requirements for Anchorages F and G in Los Angeles and Long Beach Harbors. Changes in global demand patterns and supply chain disruptions have contributed to port congestion and increased usage of Anchorages F and G. Due to economies of scale, vessels calling on the Ports of Los Angeles and Long Beach have increased in size and require more surface area for anchoring and maneuvering. Additionally, a subsea pipeline is located less than one nautical mile from the anchorages. For these reasons, the Coast Guard is publishing this rule to expand the distance between anchorages and require vessels greater than 1600 gross tons to place their propulsion plants in standby and have a second anchor ready to let go when forecasted and/or observed wind speeds and gusts are 35 knots or greater. This rule requirement is needed to prevent vessels from dragging anchor and to prevent harm to vessels, the port, and the environment. The regulation would update port, pilot, and communication information to maintain proactive anchorage management.

In response to comments, we removed the line in Table 11 to paragraph (c) to Anchorage A as suggested by the commenter. Anchorage A was removed on January 2, 2015 (79 FR 71654) and this line is no longer necessary. Additionally, we updated the formatting of the coordinates to match what is currently in other parts of the CFR.

In addition to the changes made in response to public comments, we made two additional changes. First, we discovered that Note “d” to Table 11 to paragraph (c) contained an outdated cross-reference to § 165.1109(e). Section 165.1109 was redesignated as § 165.1152 on June 30, 2001 (66 FR 33637). We have corrected that reference here. Second, we changed the reference from Vessel Traffic Service (VTS) to VMRS to correctly refer to the system and align with 33 CFR 161.12. While technically a VMRS, it's common parlance to refer to them as “VTS LA-LB.”

The specific anchorage boundaries and amendments are described in detail in the proposed regulatory text at the end of the document.

V. Regulatory Analyses

We developed this rule after considering numerous statutes and Executive orders related to rulemaking.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, this rule has not been reviewed by the Office of Management and Budget (OMB).

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires

Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves amending the regulations for Los Angeles and Long Beach Harbors. This action would amend Anchorages F and G, and update anchorage usage and communication requirements. The purpose of this final rule is to improve navigation safety by modifying Anchorages F and G to accommodate an increased volume of vessel traffic and larger vessels calling on the Ports of Los Angeles and Long Beach and alleviate vessels anchoring near a subsea pipeline. It is categorically excluded from further review under paragraph L59 (b) of Appendix A, Table 1 of DHS Instruction Manual 023-01-001-01, Rev. 1.

List of Subjects in 33 CFR Part 110

Anchorage Grounds.

For the reasons discussed in the preamble, the Coast Guard amends 33 CFR part 110 as follows:

PART 110—ANCHORAGE REGULATIONS

1. The authority citation for part 110 continues to read as follows:

Authority: 33 U.S.C. 2071; 46 U.S.C. 70006, 70034; 33 CFR 1.05-1; Department of Homeland Security Delegation No. 00170.1, Revision No. 01.3.

2. Amend § 110.214, by revising and republishing paragraphs (a)(1)(i) and (ii), (a)(2)(i)(B), (a)(3), (b)(6) and (7), and (c) to read as follows:

§ 110.214 Los Angeles and Long Beach Harbors, California.

(a) * * *

(1) * * *

(i) Unless otherwise directed by the Captain of the Port Los Angeles-Long Beach, the Long Beach Port Pilots will assign all anchorages inside the federal breakwater. All anchorages outside (seaward) of the federal breakwater will be assigned by Vessel Movement Reporting System (VMRS) Center Los Angeles-Long Beach. The master, pilot, or person in charge of a vessel must notify the Long Beach Pilots (for anchorages inside the federal breakwater) or VMRS Center Los Angeles-Long Beach (for anchorages outside the federal breakwater) of their intention to anchor, upon anchoring, and at least fifteen minutes prior to departing an anchorage. All anchorage assignments will be made as described in this part unless modified by the Captain of the Port.

(ii) Radio communications for port entities governing anchorages are as follows: VMRS Center Los Angeles-Long Beach, call sign “San Pedro Traffic”, Channel 14 VHF-FM; Long Beach Port Pilots, call sign “Long Beach Pilots”, Channel 12 VHF-FM.

* * * * *

(2) * * *

(i) * * *

(B) No vessel may anchor anywhere else within Los Angeles or Long Beach harbors (inside the federal breakwater) for more than 10 consecutive days unless extended anchorage permission is obtained from the Captain of the Port. In determining whether extended anchorage permission will be granted, consideration will be given, but not necessarily limited to: The current and anticipated demands for anchorage space within the harbor, the requested duration, the condition of the vessel, and the reason for the request.

* * * * *

(3) Other General Requirements. (i) When at anchor, all commercial vessels greater than 1600 gross tons shall, at all times, have a licensed or credentialed deck officer on watch and maintain a continuous radio listening watch unless subject to one of the exemptions in this paragraph. The radio watch must be on CH-12 VHF-FM when anchored inside the federal breakwater, and on CH-14 VHF-FM when anchored outside the federal breakwater, except for unmanned barges; vessels which have less than 100 gallons of oil or fuel onboard regardless of how the fuel is carried; and other vessels receiving advance approval from the Captain of the Port.

(ii) When winds are forecasted and/or observed at 35 knots or greater (including wind gusts) vessels shall ensure their propulsion plant is placed in immediate standby and a second anchor, if installed, is made ready to let go. Vessels unable to comply with this requirement must immediately notify the Captain of the Port. In such case, the Captain of the Port may require additional precautionary measures, including but not limited to one or more tugs standing by to render immediate assistance.

* * * * *

(b) * * *

(6) Commercial Anchorage F (outside of Long Beach Breakwater). (i) The waters southeast of the Long Beach Breakwater bounded by a line connecting the following coordinates:

Table 6 to Paragraph (b)(6)(i)
| Latitude | Longitude
Beginning Point | 33°43′05.1″ N | 118°08′04.0″ W
Thence west to | 33°43′05.0″ N | 118°10′32.5″ W
Thence south/southeast to | 33°42′13.3″ N | 118°09′54.8″ W
Thence south/southeast to | 33°40′51.3″ N | 118°09′32.2″ W
Thence south/southeast to | 33°38′36.2″ N | 118°07′43.8″ W
Thence north/northeast to | 33°40′44.4″ N | 118°06′51.4″ W

(ii) And thence north/northwest to the beginning point.

(7) Commercial Anchorage G (outside of the Middle Breakwater). (i) The waters south of the Middle Breakwater bounded by a line connecting the following coordinates:

Table 7 to Paragraph (b)(7)(i)
| Latitude | Longitude
Beginning Point | 33°43′05.4″ N | 118°11′17.9″ W
Thence west to | 33°43′05.4″ N | 118°12′18.6″ W
Thence south/southwest to | 33°42′25.8″ N | 118°14′19.2″ W
Thence southeast to | 33°40′50.4″ N | 118°13′01.2″ W
Thence northeast | 33°41′02.9″ N | 118°12′19.0″ W
Thence east/northeast to | 33°42′10.8″ N | 118°11′36.0″ W

(ii) And thence north/northeast to the beginning point.

* * * * *

(c) Individual anchorage requirements: (1) Table 11 to this paragraph (c) lists anchorage grounds, identifies the purpose of each anchorage, and contains specific regulations applicable to certain anchorages. Requirements for the explosives anchorage are contained in paragraph (d) of this section.

(2) The geographic boundaries of each anchorage are contained in paragraph (b) of this section.

Table 11 to Paragraph (c)
Anchorage | General location | Purpose | Specific regulations
B | Long Beach Harbor | ......do | ......Do.
C | ......do | ......do | Notes a, g.
D | ......do | Commercial & Naval | Notes a, b, g.
E | ......do | Commercial | Note c.
F | Outside Breakwater | ......do | Notes c, d, g.
G | ......do | ......do | Notes c, d.
N | Los Angeles Harbor | Small Craft | Note e.
P | Long Beach Harbor | ......do | Note f.
Q | ......do | ......do | Notes c, g.
Notes:
a. Bunkering and lightering are permitted.
b. West of 118°09′48″ W priority for use of the anchorage will be given to commercial vessels over 244 meters (approximately 800 feet). East of 118°09′48″ W priority for use of the anchorage will be given to Naval and Public vessels, vessels under Department of Defense charter, and vessels requiring use of the explosives anchorage.
c. Bunkering and lightering are prohibited.
d. This anchorage is within a Regulated Navigation Area and additional requirements apply as set forth in 33 CFR 165.1152.
e. This anchorage is controlled by the Los Angeles Port Police. Anchoring, mooring and recreational boating activities conforming to applicable City of Los Angeles ordinances and regulations are allowed in this anchorage.
f. This anchorage is controlled by the Long Beach Harbor Master. Anchoring, mooring and recreational boating activities conforming to applicable City of Long Beach ordinances and regulations are allowed in this anchorage.
g. When the explosives anchorage is activated portions of this anchorage lie within the explosives anchorage and the requirements of paragraph (d) of this section apply.

* * * * *

Dated: September 4, 2025.
Jeffrey W. Novak,
Rear Admiral, U.S. Coast Guard, Commander, Eleventh Coast Guard District.

[FR Doc. 2025-17318 Filed 9-8-25; 8:45 am]

BILLING CODE 9110-04-P